DEPARTMENT OF COMMERCE

International Trade Administration

[A-583-831]

Certain Stainless Steel Sheet and Strip in Coils From Taiwan: Extension of Final Results of Antidumping Duty Administrative Review

AGENCY: Import Administration, International Trade Administration, Department of Commerce.

ACTION: Notice of extension of time limit for final results of antidumping duty administrative review.

SUMMARY: The Department of Commerce (“the Department”) is extending the time limit for the final results of the review of stainless steel sheet and strip in coils (“SSSS”) from Taiwan. This review covers the period July 1, 2001 through June 30, 2002.

EFFECTIVE DATE: December 8, 2003.

FOR FURTHER INFORMATION CONTACT: Laurel LaCivita, Enforcement Group III—Office 9, Import Administration, International Trade Administration, U.S. Department of Commerce, 14th Street and Constitution Avenue NW., Washington, DC 20230; telephone (202) 482-4243.

Background

On August 27, 2002, the Department published a notice of initiation of a review of SSSS from Taiwan covering the period July 1, 2001 through June 30, 2002. See Initiation of Antidumping and Countervailing Duty Administrative Reviews and Requests for Revocation in Part, 67 FR 55000 (August 27, 2002). On August 6, 2003, the Department published the preliminary results of the review. See Stainless Steel Sheet and Strip in Coils From Taiwan: Preliminary Results and Partial Rescission of Antidumping Duty Administrative Review, 68 FR 46582 (August 6, 2003), (“Preliminary Results”). In the Preliminary Results, the Department stated that it would make its final determination for the antidumping duty administrative review no later than 120 days after the date of publication of the Preliminary Results, or not later than December 4, 2003.

Extension of Time Limit for Preliminary Results

Section 751(a)(3)(A) of the Act states that if it is not practicable to complete the review within the time specified, the administering authority may extend the 120-day period, following the date of publication of the preliminary results, to issue its final results by an additional 60 days. Completion of the final results within the 120-day period is not practicable for the following reasons: (1) This review requires the Department to analyze YUSCO's complex affiliation and corporate relationships; (2) This review involves certain complex issues which were raised by petitioners after the verification and after the preliminary results of review; and (3) The review involves a large number of transactions and complex adjustments.

Therefore, in accordance with section 751(a)(3)(A) of the Act, the Department is extending the time period for issuing the final results of review by 43 days until January 16, 2004.

This notice is published in accordance with section 751(a)(3)(A) and 777(i) of the Act.

Dated: December 2, 2003.
Barbara E. Tillman,
Acting Deputy Assistant Secretary for Import Administration, Group III.

[FR Doc. 03-30390 Filed 12-5-03; 8:45 am]

BILLING CODE 3510-DS-P